DEPARTMENT OF TRANSPORTATION

Federal Aviation Administration

[Summary Notice No. PE-2005-49]

Petitions for Exemption; Dispositions of Petitions Issued

AGENCY: Federal Aviation Administration (FAA), DOT.

ACTION: Notice of disposition of prior petition.

SUMMARY: Pursuant to FAA's rulemaking provisions governing the application, processing, and disposition of petitions for exemption, part 11 of Title 14, Code of Federal Regulations (14 CFR), this notice contains the disposition of certain petitions previously received. The purpose of this notice is to improve the public's awareness of, and participation in, this aspect of FAA's regulatory activities. Neither publication of this notice nor the inclusion or omission of information in the summary is intended to affect the legal status of any petition or its final disposition.

FOR FURTHER INFORMATION CONTACT: Tim Adams (202) 267-8033, Sandy Buchanan-Sumter (202) 267-7271, or John Linsenmeyer (202) 267-5174, Office of Rulemaking (ARM-1), Federal Aviation Administration, 800 Independence Avenue, SW., Washington, DC 20591.

This notice is published pursuant to 14 CFR 11.85 and 11.91.

Issued in Washington, DC, on August 19, 2005.
Anthony F. Fazio,
Director, Office of Rulemaking.

Disposition of Petitions

Docket No.: FAA-2003-14227.

Petitioner: Kenmore Air Harbor, Inc.

Sections of 14 CFR Affected:

14 CFR 135.154(b)(2).

Description of Relief Sought/Disposition: To permit Kenmore Air Harbor, Inc., to operate four DHC-3 Turbine Otter aircraft that are not equipped with an approved terrain awareness and warning system that meets the requirements for Class B equipment in Technical Standard Order-C151. Denial, 04/01/2005, Exemption No. 8532.

Docket No.: FAA-2005-20770.

Petitioner: Arrow Air, Inc.

Sections of 14 CFR Affected: 14 CFR 121.354(b).

Description of Relief Sought/Disposition: To permit Arrow Air, Inc., to operate certain DC-10 aircraft without those aircraft being equipped with an approved awareness and warning system that meets the requirements for Class A equipment in Technical Standard Order-C151; and to operate without an approved terrain situational awareness display. Grant, 04/04/2005, Exemption No. 8527B.

Docket No.: FAA-2004-19884.

Petitioner: Orbital Sciences Corporation.

Sections of 14 CFR Affected: 14 CFR 91.223(b) and (c).

Description of Relief Sought/Disposition: To permit Orbital Sciences Corporation to operate a Lockheed L-1011 aircraft within and outside the United States after March 29, 2005, without being equipped with an approved terrain awareness and warning ssytem that meets the requirements for class B equipment in Technical Standard Order-C151. Denial, 04/06/2005, Exemption No. 8534.

Docket No.: FAA-2005-20558.

Petitioner: National Oceanic and Atmospheric Administration.

Sections of 14 CFR Affected: 14 CFR 91.223.

Description of Relief Sought/Disposition: To permit the National Oceanic and Atmospheric Administration to operate two Rockwell WP-3D aircraft and one Gulfstream G-IV after March 29, 2005, without being equipped with an approved terrain awareness and warning system that meets the requirements for class B equipment in Technical Standard Order-C151. Denial, 04/07/2005, Exemption No. 8537.

Docket No.: FAA-2005-20749.

Petitioner: Centurion Air Cargo, Inc.

Sections of 14 CFR Affected: 14 CFR 121.354(b) and (c).

Description of Relief Sought/Disposition: To permit Centurion Air Cargo, Inc. (CAC), to operate certain DC-10 aircraft without those aircraft being equipped with approved terrain awareness and warning system (TAWS) that meets the rquirements for Class A equipment in Technical Standard Order-C151; and to operate without an approved terrain situational awareness display. This exemption will also permit the switching of the deadlines for installing TAWS in two of CAC's aircraft. Grant, 4/08/2005, Exemption No. 8528B.

Docket No.: FAA-2005-20554.

Petitioner: Inter Island Airways, Inc.

Sections of 14 CFR Affected: 14 CFR 135.154(b)(1) and (c).

Description of Relief Sought/Disposition: To permit Inter Island Airways, Inc., to operate its Dornier 228 aircraft after March 29, 2005, without having an approved terrain awareness and warning system that meets the requirements for Class A equipment in Technical Standard Order-C151 installed on those aircraft; and to operate its aircraft without an approved terrain situational awareness display. Grant, 4/08/2005, Exemption No. 8520A.

Docket No.: FAA-2005-20760.

Petitioner: Southern Air Charter.

Sections of 14 CFR Affected: 14 CFR 91.223(b).

Description of Relief Sought/Disposition: To permit Southern Air Charter to operate its Beech 1900 aircraft after March 29, 2005, without being equipped with an approved terrain awareness and warning system that meets the requirements for Class B equipment in Technical Standard Order-C151. Denial, 4/15/2005, Exemption No. 8539.

Docket No.: FAA-2004-17062.

Petitioner: Rohr, Inc.

Sections of 14 CFR Affected: 14 CFR 21.325(b)(3).

Description of Relief Sought/Disposition: To permit Rohr, Inc., to issue export airworthiness approvals for Class II and Class III products at Rohr, Inc. locations outside of the United States and 23 international locations. Grant, 4/15/2005, Exemption No. 8291A.

Docket No.: FAA-2002-13311 and FAA-2005-20461.

Petitioner: The Boeing Company.

Sections of 14 CFR Affected: 14 CFR 21.325(b)(3).

Description of Relief Sought/Disposition: To permit Boeing's Organizational Designated Airworthiness Representatives to issue export airworthiness approvals for Class II and Class III products manufactured by Boeing-approved suppliers in 19 foreign countries, as well as Taiwan. Grant, 4/15/2005, Exemption No. 6860D.

Docket No.: FAA-2005-20106.

Petitioner: Cirrus Design Corporation.

Sections of 14 CFR Affected: 14 CFR 45.29(b)(1).

Description of Relief Sought/Disposition: To permit Cirrus Design Corporation to use 3- or 4-inch nationality and registration marks for certain aircraft undergoing production test flights. Denial, 4/15/2005, Exemption No. 8543.

Docket No.: FAA-2003-15444.

Petitioner: America West Airlines, Inc.

Sections of 14 CFR Affected: 14 CFR 121.434(c)(1)(ii).

Description of Relief Sought/Disposition: To permit America West Airlines, Inc., to substitute a qualified and authorized check airman or aircrew program designee for an Federal Aviation Administration inspector to observe a qualifying pilot in command who is completing initial or upgrade training specified in § 121.424 during at least one flight leg that includes a takeoff and a landing. Grant, 4/19/2005, Exemption No. 8095A.

Docket No.: FAA-2004-18751.

Petitioner: Vaughn College of Aeronautics and Technology.

Sections of 14 CFR Affected: 14 CFR part 147, Appendix C.

Description of Relief Sought/Disposition: To permit Vaughn College of Aeronautics and Technology to teach the curriculum for airframe structures, “solder, braze, gas-weld, and arc-weld steel,” to Teaching level 1 instead of level 2. Denial, 4/20/2005, Exemption No. 8541.

Docket No.: FAA-2005-20829.

Petitioner: Hummel Aviation, LLC.

Sections of 14 CFR Affected: 14 CFR 135.143(c)(2).

Description of Relief Sought/Disposition: To permit Hummel Aviation, LLC, to operate certain aircraft under part 135 without a TSO-C112 (Mode S) transponder installed in the aircraft. Grant, 4/21/2005, Exemption No. 8548.

Docket No.: FAA-2002-14012.

Petitioner: The Blue Angels.

Sections of 14 CFR Affected: 14 CFR 91.117(a) and (b), 91.119(c), and 91.303(c), (d), and (e).

Description of Relief Sought/Disposition: To permit The Blue Angels to conduct demonstration rehearsals involving low-level, high-speed, and aerobatic flight, subject to certain conditions and limitations; and to include the airspace directly above Class C and D airspace at NAS Pensacola, Florida; NAS Choctaw, Florida; and El Centro, California, below 10,000 feet mean sea level (MSL) as described in the conditions and limitations. Grant, 4/27/2005, Exemption No. 4504H.

Docket No.: FAA-2002-13688.

Petitioner: Promech, Inc., d.b.a Promech Air.

Sections of 14 CFR Affected: 14 CFR 135.203(a)(1).

Description of Relief Sought/Disposition: To permit Promech, Inc., d.b.a Promech Air, to conduct operations under visual flight rules outside controlled airspace, over water, at an altitude below 500 feet above the surface. Grant, 4/27/2005, Exemption No. 8108A.

Docket No.: FAA-2005-20708.

Petitioner: World Airways, Inc.

Sections of 14 CFR Affected: 14 CFR 121.665 and 121.697(a)(1), (b), and (c).

Description of Relief Sought/Disposition: To permit World Airways, Inc., to substitute a computer application signature for the signed load manifest required by these sections. Grant, 4/27/2005, Exemption No. 8547.

Docket No.: FAA-2000-8095.

Petitioner: Scenic Airlines, Inc.

Sections of 14 CFR Affected: 14 CFR 121.434(c)(1)(ii).

Description of Relief Sought/Disposition: To permit Scenic Airlines, Inc., to substitute a qualified and authorized check airman or aircrew program designee for an FAA inspector to observe a qualifying pilot in command who is completing initial or upgrade training specified in § 121.424 during at least one flight leg that includes a takeoff and a landing. Grant, 4/27/2005, Exemption No. 8088A.

Docket No.: FAA-2003-15395.

Petitioner: Delta Air Lines, Inc.

Sections of 14 CFR Affected: 14 CFR SFAR 58, paragraph 6(b)(3)(ii)(A).

Description of Relief Sought/Disposition: To permit Delta Air Lines, Inc., to meet line check requirements using an alternative line check program; and to conduct an alternative line check program. Grant, 4/27/2005, Exemption No. 8107A.

Docket No.: FAA-2001-8936.

Petitioner: Mr. Robert P. Lavery.

Sections of 14 CFR Affected: 14 CFR 91.109(a) and (b)(3).

Description of Relief Sought/Disposition: To permit Mr. Robert P. Lavery to conduct certain flight instruction and simulated instrument flights to meet the recent instrument experience requirements in certain Beechcraft airplanes equipped with a functioning throw-over control wheel in place of functioning dual controls. Grant, 4/27/2005, Exemption No. 7571B.

Docket No.: FAA-2002-14119.

Petitioner: Department of the Navy, United States Marine Corps.

Sections of 14 CFR Affected: 14 CFR 91.209(a)(1) and (2).

Description of Relief Sought/Disposition: To permit the Department of the Navy, United States Marine Corps to conduct helicopter night-vision device flight training operations without lighted aircraft position lights. Grant, 4/27/2005, Exemption No. 8028A.

Docket No.: FAA-2001-8878.

Petitioner: American Airlines.

Sections of 14 CFR Affected: 14 CFR 121.434(c)(3)(ii).

Description of Relief Sought/Disposition: To permit American Airlines to substitute a qualified and authorized check airman in place of an FAA inspector to observe a qualifying pilot in command (PIC) while that PIC is performing prescribed duties during at least one flight leg that includes a takeoff and a landing when completing initial or upgrade training specified in § 121.434. Grant, 4/27/2005, Exemption No. 6916C.

Docket No.: FAA-2005-20038.

Petitioner: Era Helicopters LLC.

Sections of 14 CFR Affected: 14 CFR 91.411(b) and 91.413(c).

Description of Relief Sought/Disposition: To permit Era Helicopters LLC to perform air traffic control transponder tests and inspections and altimeter system and altimeter reporting equipment tests and inspections for its 14 CFR part 135 aircraft maintained under a continous airworthiness maintenance program; and maintained in accordance with the requirements of 135.411(a)(1) and (a)(2). Grant, 4/27/2005, Exemption No. 8474A.

Docket No.: FAA-2005-20897.

Petitioner: Hampton Roads Charter Service.

Sections of 14 CFR Affected: 14 CFR 135.143(c)(2).

Description of Relief Sought/Disposition: To permit Hampton Roads Charter Service to operate certain aircraft under part 135 without a TSO-C112 (Mode S) transponder installed in the aircraft. Grant, 4/28/2005, Exemption No. 8545.

Docket No.: FAA-2004-19520.

Petitioner: Unison Industries.

Sections of 14 CFR Affected: 14 CFR 45.15(b).

Description of Relief Sought/Disposition: To permit Unison Industries to identify those parts that can be marked with a tag to contain a reference to a catalog specifying that part's installation eligibility, in those situations where that information must be listed on the tag. Denial, 4/28/2005, Exemption No. 8544.

Docket No.: FAA-2005-20857.

Petitioner: The Boeing Company.

Sections of 14 CFR Affected: 14 CFR 21.325(b)(3).

Description of Relief Sought/Disposition: To permit Boeing's Organizational Designated Airworthiness Representatives to issue export airworthiness approvals for Class II and Class III products manufactured by Boeing-approved suppliers in India, Greece, South Korea, and Turkey. Denial, 4/29/2005, Exemption No. 8549.

Docket No.: FAA-2001-9030.

Petitioner: State of Alaska, Department of Natural Resources, Division of Forestry.

Sections of 14 CFR Affected: 14 CFR 91.119(b) and (c).

Description of Relief Sought/Disposition: To permit pilots employed by the State of Alaska, Department of Natural Resources, Division of Forestry (DOF) or acting under the DOF contract to conduct certain firefighting operations. Grant, 4/29/2005, Exemption No. 4063.

[FR Doc. 05-16922 Filed 8-24-05; 8:45 am]

BILLING CODE 4910-13-P